DEPARTMENT OF THE INTERIOR

Geological Survey

[GX21EE000101100]

Public Meeting Notice of Scientific Earthquake Studies Advisory Committee

AGENCY: U.S. Geological Survey, Interior.

ACTION: Notice of public meeting (via teleconference).

SUMMARY: In accordance with the Federal Advisory Committee Act of 1972, the U.S. Geological Survey (USGS) is publishing this notice to announce that a Federal Advisory Committee meeting of the Scientific Earthquake Studies Advisory Committee (SESAC) will take place.

DATES: The virtual meeting will be held on Tuesday, March 29, 2022, from 1-3 p.m. Eastern Time and Thursday, March 31, 2022, from 1-3 p.m. Eastern Time.

FOR FURTHER INFORMATION CONTACT: Dr. Gavin Hayes, U.S. Geological Survey (USGS), by email at ghayes@usgs.gov or by telephone at 303-374-4449.

SUPPLEMENTARY INFORMATION: This meeting is being held under the provisions of the Federal Advisory Committee Act of 1972 (5 U.S.C., appendix, as amended), the Government in the Sunshine Act of 1976 (5 U.S.C. 552B, as amended), and 41 CFR 102-3.140 and 102-3.150.

Purpose of the Meeting: The Committee will review the current activities of the USGS Earthquake Hazards Program (EHP), discuss future priorities, and consider its draft report to the USGS Director.

Agenda Topics: Earthquake Hazards Program strategic planning; Administration priorities and interactions; budget opportunities; balance of activities supported by the EHP; External Grants; NEHRP; National Seismic Hazard Model; ShakeAlert; reports from SESAC sub-committees.

Meeting Accessibility/Special Accommodations: Members of the public wishing to participate in the virtual meeting should contact Dr. Gavin Hayes by email at ghayes@usgs.gov to register no later than five (5) business days prior to the meeting. Virtual meeting (conference) call-in information and any updates to the agenda will be provided via email to registered participants.

Public Disclosure of Comments: Time will be allowed at the virtual meeting for any individual or organization wishing to make formal oral comments. To allow for full consideration of information by the committee members, written notice must be provided to Dr. Gavin Hayes by email at ghayes@usgs.gov at least five (5) business days prior to the meeting. Any written comments received will be provided to the committee members.

Before including your address, phone number, email address, or other personally identifiable information (PII) in your comment, you should be aware that your entire comment—including your PII—may be made publicly available at any time. While you may ask us in your comment to withhold your PII from public review, we cannot guarantee that we will be able to do so.

Linda R. Huey,
Program Specialist, National Hazards Mission Area.

[FR Doc. 2022-03292 Filed 2-15-22; 8:45 am]

BILLING CODE 4338-11-P